FEDERAL MEDIATION AND CONCILIATION SERVICE

29 CFR Part 1404

Proposed Changes to Arbitration Policies, Functions, and Procedures

AGENCY: Federal Mediation and Conciliation Service.

ACTION: Proposed rule; correction.

SUMMARY: This document corrects § 1404.5(b) and to add revisions to § 1404.5(d)(7) in a proposed rule published in the Federal Register of July 7, 2005 (70 FR 39209), regarding Arbitration Policies, Functions and Procedures. The corrections clarify the Proof of Qualification needed to be on the Roster in § 1404.5(b) and adds the non-payment of the annual listing fee in § 1404.5(d)(7).

FOR FURTHER INFORMATION CONTACT: Maria A. Fried, General Counsel and Federal Register Liaison, FMCS, 2100 K Street, NW., Washington, DC 20427. Telephone (202) 606-5444; Fax (202) 606-5345.

Correction

In proposed rule FR Doc. 05-11362, beginning on page 39209 in the issue on July 7, 2005, make the following corrections to § 1404.5(b) and (d)(7).

On page 39211, in the first column, correctly revise § 1404.5(b) to read as follows:

(b) Proof of Qualification. The qualifications listed in (a) of this section are preferably demonstrated by the submission of five recent arbitration awards prepared by the applicant while serving as an impartial arbitrator of record chosen by the parties to labor relations disputes arising under collective bargaining agreements, or the successful completion of the FMCS labor arbitrator training course within the five years immediately preceding the date of application plus two awards as described above, and the submission of information demonstrating extensive and recent experience in collective bargaining, including at least the position or title held, duties or responsibilities, the name and location of the company or organization, and the dates of employment.

On page 39211, in the center column, correctly revise § 1404.5(d)(7) to read as follows:

(d) * * *

(7) Has been in an inactive status pursuant to § 1404.6 for longer than two years and has not paid the annual listing fee.

Dated: July 15, 2005.
Maria A. Fried,
General Counsel and Federal Register Contact.

[FR Doc. 05-14347 Filed 7-20-05; 8:45 am]

BILLING CODE 6732-01-P